DEPARTMENT OF COMMERCE

Foreign-Trade Zones Board

[B-28-2017]

Foreign-Trade Zone 186—Waterville, Maine; Application for Production Authority; Flemish Master Weavers; Subzone 186A; Invitation for Public Comment on Additional Information

The FTZ Board is inviting public comment on a new submission by the City of Waterville, Maine, grantee of FTZ 186, containing additional information pertaining to the production application of Flemish Master Weavers (FMW). The application, which was subject to a public comment period through August 7, 2017, requests unrestricted authority for FMW to produce machine-made woven area rugs from foreign-status continuous filament polypropylene yarn within Subzone 186A at the FMW facility in Sanford, Maine. The new submission on which the FTZ Board is now inviting public comment includes additional information concerning the supply of domestically-produced continuous filament polypropylene yarn and additional HTSUS Subheadings to describe that yarn.

Public comment is invited from interested parties. Submissions shall be addressed to the FTZ Board's Executive Secretary at the address below. The closing period for their receipt is February 12, 2018. Rebuttal comments in response to material submitted during the foregoing period may be submitted during the subsequent 15-day period to February 26, 2018.

A copy of the submission will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Diane Finver at Diane.Finver@trade.gov or (202) 482-1367.

Dated: January 8, 2018.
Andrew McGilvray,
Executive Secretary.

[FR Doc. 2018-00437 Filed 1-11-18; 8:45 am]

BILLING CODE 3510-DS-P